DEPARTMENT OF EDUCATION

[Docket No. ED-2020-SCC-0177]

Agency Information Collection Activities; Submission to the Office of Management and Budget for Review and Approval; Comment Request; Experimental Sites Initiative Reporting Tool 2020

AGENCY: Federal Student Aid (FSA), Department of Education (ED).

ACTION: Notice.

SUMMARY: In accordance with the Paperwork Reduction Act of 1995, ED is proposing a revision of a currently approved collection.

DATES: Interested persons are invited to submit comments on or before May 6, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Beth Grebeldinger, (202) 377-4018.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Experimental Sites Initiative Reporting Tool 2020.

OMB Control Number: 1845-0150.

Type of Review: Revision of a currently approved collection.

Respondents/Affected Public: Private Sector; State, Local, and Tribal Governments.

Total Estimated Number of Annual Responses: 556.

Total Estimated Number of Annual Burden Hours: 11,120.

Abstract: The Secretary of the U.S. Department of Education is authorized under Section 487A(b) of the Higher Education Act of 1965, as amended (HEA), to periodically select a limited number of postsecondary institutions for voluntary participation as experimental sites under the Experimental Sites Initiative (ESI). Institutions and the experiments provide recommendations to the Secretary on the impact and effectiveness of proposed regulations or new management initiatives. Participating postsecondary educational institutions are exempt from specific designated statutory and regulatory requirements while conducting the experiments.

Federal Student Aid (FSA) is requesting a revision of the current information collection 1845-0150. This request is due to changes in the reporting guidelines. FSA is adding new COVID-19 related questions to the Institutional Survey of the schools participating in the Experimental Sites Initiative. FSA is adding new questions to the Institutional Survey of the schools participating in the new Federal Work-Study Experiment. The additional data collection questions are for the new Federal Work-Study Experiment, and FSA has integrated this request with ongoing data collection efforts for the ESI. FSA is increasing school reporting due to the new Federal Work-Study Experiment and the expansion of Second Chance Pell schools. Finally, several of the survey items schools participating in the Second Chance Pell are asked to complete have been reworded.

Dated: April 1, 2021.
Kate Mullan,
PRA Coordinator, Strategic Collections and Clearance, Governance and Strategy Division, Office of Chief Data Officer, Office of Planning, Evaluation and Policy Development.

[FR Doc. 2021-07020 Filed 4-5-21; 8:45 am]

BILLING CODE 4000-01-P